NATIONAL INSTITUTE FOR LITERACY

National Institute for Literacy Advisory Board

AGENCY: National Institute for Literacy

ACTION: Notice of a partially closed meeting.

SUMMARY: This notice sets forth the schedule and a summary of the agenda for an upcoming meeting of the National Institute for Literacy Advisory Board (Board). The notice also describes the functions of the Board. Notice of this meeting is required by section 10 (a)(2) of the Federal Advisory Committee Act. This document is intended to notify the general public of their opportunity to attend the meeting. Individuals who will need accommodations for a disability in order to attend the meeting (e.g., interpreting services, assistive listening devices, or materials in alternative format) should notify Shelly Coles at telephone number (202) 233-2044 no later than January 16, 2007. We will attempt to meet requests for accommodations after this date but cannot guarantee their availability. The meeting site is accessible to individuals with disabilities.

Date and Time

Open sessions—January 25, 2007, from 8:30 a.m. to 6 p.m.; and January 26, 2007, from 8:30 a.m. to 10 a.m.

Closed session—January 26, 2007, from 10 a.m. to 1 p.m.

ADDRESSES: The Jefferson Hotel, 1200 16th Street, NW., Washington, DC 20036.

FOR FURTHER INFORMATION CONTACT: Shelly Coles, National Institute for Literacy, 1775 I Street, NW., Suite 730, Washington, DC 20006; telephone number: (202) 233-2044; e-mail: scoles@nifl.gov.

SUPPLEMENTARY INFORMATION: The Board is established under section 242 of the Workforce Investment Act of 1998, Pub.L. 105-220 (20 U.S.C. 9252). The Board consists of ten individuals appointed by the President with the advice and consent of the Senate. The Board advises and makes recommendations to the Interagency Group that administers the Institute. The Interagency Group is composed of the Secretaries of Education, Labor, and Health and Human Services. The Interagency Group considers the Board's recommendations in planning the goals of the Institute and in implementing any programs to achieve those goals. Specifically, the Board performs the following functions: (a) Makes recommendations concerning the appointment of the Director and the staff of the Institute; (b) provides independent advice on operation of the Institute; and (c) receives reports from the Interagency Group and the Institute's Director.

The National Institute for Literacy Advisory Board will meet January 25-26, 2007. On January 25, 2007 from 8:30 a.m. to 6 p.m.; and January 26, 2007 from 8:30 a.m. to 10 a.m., the Board will meet in open session to discuss the Institute's future and current program priorities; status of on-going Institute work; other relevant literacy activities and issues; and other Board business as necessary.

On January 26, 2007 from 10 a.m. to 1 p.m., the Board meeting will meet in closed session in order to discuss personnel issues. This discussion relates to the internal personnel rules and practices of the Institute, including consideration of the Director's performance. The discussion is likely to disclose information of personal nature where disclosure would constitute a clearly unwarranted invasion of personnel privacy. The discussion must therefore be held in closed session under exemptions 2 and 6 of the Government in the Sunshine Act, 5 U.S.C. 552b(c)(2) and (6). A summary of the activities at the closed session and related matters that are informative to the public and consistent with the policy of 5 U.S.C. 552b will be available to the public within 14 days of the meeting.

The National Institute for Literacy Advisory Board meeting on January 25-26, 2007, will focus on future and current program activities, and other relevant literacy activities and issues.

Records are kept of all Advisory Board proceedings and are available for public inspection at the National Institute for Literacy, 1775 I Street, NW., Suite 730, Washington, DC 20006, from 8:30 a.m. to 5 p.m.

Dated: January 3, 2007.
Sandra L. Baxter,
Director.

[FR Doc. E7-66 Filed 1-8-07; 8:45 am]

BILLING CODE 6055-01-P